DEPARTMENT OF VETERANS AFFAIRS

[OMB Control No. 2900-New (10-0439)]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before July 31, 2006.

For Further Information or a Copy of the Submission Contact: Denise McLamb, Records Management Service (005G2), Department of Veterans Affairs, 810 Vermont Avenue, NW., Washington, DC 20420, (202) 565-8374, fax (202) 565-7045 or e-mail: denise.mclamb@mail.va.gov. Please refer to “OMB Control No. 2900-New (10-0439).”

Send comments and recommendations concerning any aspect of the information collection to VA's OMB Desk Officer, OMB Human Resources and Housing Branch, New Executive Office Building, Room 10235, Washington, DC 20503 (202) 395-7316. Please refer to “OMB Control No. 2900-New (10-0439)” in any correspondence.

SUPPLEMENTARY INFORMATION: Title: Learner's Perception (LP) Survey, VA Form 10-0439.

OMB Control Number: 2900-New (10-0439).

Type of Review: New collection.

Abstract: VA Form 10-0439 will be used to obtain health care trainees perception of their clinical experience with VA versus non-VA facilities. VA will use the data to identify strengths and opportunities for improvement in VA clinical training programs.

An agency may not conduct or sponsor, and a person is not required to respond to a collection of information unless it displays a currently valid OMB control number. The Federal Register Notice with a 60-day comment period soliciting comments on this collection of information was published on April 13, 2006, at page 19239.

Affected Public: Individuals or households.

Estimated Annual Burden: 2,250 hours.

Estimated Average Burden per Respondent: 15 minutes.

Frequency of Response: One-time.

Estimated Number of Respondents: 9,000.

Dated: June 14, 2006.
By direction of the Secretary.
Denise McLamb,
Program Analyst, Records Management Service.

[FR Doc. E6-10235 Filed 6-28-06; 8:45 am]

BILLING CODE 8320-01-P